DEPARTMENT OF DEFENSE

GENERAL SERVICES ADMINISTRATION

NATIONAL AERONAUTICS AND SPACE ADMINISTRATION

[OMB Control No. 9000-0013; Docket 2011-0079; Sequence 16]

Federal Acquisition Regulation; Information Collection; Cost or Pricing Data Requirements and Information Other Than Cost or Pricing Data

AGENCY: Department of Defense (DOD), General Services Administration (GSA), and National Aeronautics and Space Administration (NASA).

ACTION: Notice of request for public comments regarding an extension to an existing OMB clearance.

SUMMARY: Under the provisions of the Paperwork Reduction Act (44 U.S.C. chapter 35), the Regulatory Secretariat (MVCB) will be submitting to the Office of Management and Budget (OMB) a request to review and approve an extension of a previously approved information collection requirement concerning cost or pricing data requirements and information other than cost or pricing data.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before August 15, 2011.

ADDRESSES: Submit comments identified by Information Collection 9000-0013, Cost or Pricing Data Requirements and Information Other Than Cost or Pricing Data, by any of the following methods:

• Regulations.gov: http://www.regulations.gov. Submit comments via the Federal eRulemaking portal by inputting “Information Collection 9000-0013, Cost or Pricing Data Requirements and Information Other Than Cost or Pricing Data”, under the heading “Enter Keyword or ID” and selecting “Search”. Select the link “Submit a Comment” that corresponds with “Information Collection 9000-0013, Cost or Pricing Data Requirements and Information Other Than Cost or Pricing Data”. Follow the instructions provided at the “Submit a Comment” screen. Please include your name, company name (if any), and “Information Collection 9000-0013, Cost or Pricing Data Requirements and Information Other Than Cost or Pricing Data”, on your attached document.

• Fax: 202-501-4067.

• Mail: General Services Administration, Regulatory Secretariat (MVCB), 1275 First Street, NE., Washington, DC 20417. ATTN: Hada Flowers/IC 9000-0013, Cost or Pricing Data Requirements and Information Other Than Cost or Pricing Data.

Instructions: Please submit comments only and cite Information Collection 9000-0013, Cost or Pricing Data Requirements and Information Other Than Cost or Pricing Data, in all correspondence related to this collection. All comments received will be posted without change to http://www.regulations.gov, including any personal and/or business confidential information provided.

FOR FURTHER INFORMATION CONTACT: Mr. Edward Chambers, Procurement Analyst, Acquisition Policy Division, GSA (202) 501-3221 or Edward.chambers@gsa.gov.

SUPPLEMENTARY INFORMATION:

A. Purpose

The Truth in Negotiations Act requires the Government to obtain certified cost or pricing data under certain circumstances. Contractors may request an exemption from this requirement under certain conditions and provide other information instead.

B. Annual Reporting Burden

Respondents: 33,332.

Responses per Respondent: 6.

Total Responses: 199,992.

Hours per Response: 50.51.

Total Burden Hours: 10,101,684.

Obtaining Copies of Proposals: Requesters may obtain a copy of the information collection documents from the General Services Administration, Regulatory Secretariat Division (MVCB), 1275 First Street, NE., Washington, DC 20417, telephone (202) 501-4755. Please cite OMB Control No. 9000-0013, Cost or Pricing Data Requirements and Information Other Than Cost or Pricing Data, in all correspondence.

Dated: June 7, 2011.
Millisa Gary,
Acting Director, Office of Governmentwide Acquisition Policy.

[FR Doc. 2011-14863 Filed 6-15-11; 8:45 am]

BILLING CODE 6820-EP-P